DEPARTMENT OF JUSTICE

Notice of Lodging of Consent Decrees Under the Comprehensive Environmental Response, Compensation, and Liability Act (CERCLA)

Notice is hereby given that on August 23, 2012, two proposed Consent Decrees (“Decrees”) in United States and the State of South Dakota v. Cyprus Mines Corporation, Cyprus Amax Minerals Company, Inc., Blue Tee Corp., and Homestake Mining Company of California, Case No. 5:12-CV-05058-JLV, were lodged with the United States District Court for the District of South Dakota, Western Division. The case was brought under Sections 107(a) and 113(g)(2) of the Comprehensive Environmental Response, Compensation, and Liability Act (“CERCLA”), 42 U.S.C. 9607(a) and 9613(g)(2), for the recovery of response costs related to the cleanup at the Gilt Edge Mine Superfund Site (“Site”) in Lawrence County, South Dakota.

The Consent Decrees require the Defendants to pay a combined $30.2 million to settle their liability at the Site. Cyprus Mines Corporation, Cyprus Amax Minerals Company, Inc., and Blue Tee Corp. will pay a total of $26 million. Homestake Mining Company of California will pay $4.2 million. The money will be used to help pay for response costs related to the cleanup at the Site.

The United States and the State of South Dakota filed a Complaint simultaneous with the Consent Decrees alleging that the Defendants are jointly and severally liable for response costs related to the cleanup at the Site. 42 U.S.C. 9607(a), 9613(g)(2). The Consent Decrees would resolve the claims against the Defendants as described in the Complaint.

The Department of Justice will receive for a period of thirty (30) days from the date of this publication comments relating to the Decrees. Comments should be addressed to the Assistant Attorney General, Environment and Natural Resources Division, and either emailed to the pubcomment-ees.enrd@usdoj.gov or mailed to P.O. Box 7611, U.S. Department of Justice, Washington, DC 20044-7611, and should refer to United States and the State of South Dakota v. Cyprus Mines Corporation, Cyprus Amax Minerals Company, Inc., Blue Tee Corp., and Homestake Mining Company of California, Case No. 5:12-CV-05058-JLV, D.J. Ref. No. 90-11-3-08278.

The Decrees may be examined at the Office of the United States Attorney, District of South Dakota, 515 Ninth Street, Suite 201, Rapid City, South Dakota 57701. They also may be examined at the offices of U.S. EPA Region 8, 1595 Wynkoop Street, Denver, Colorado 80202. During the public comment period, the Decrees may be examined on the following Department of Justice Web site, http://www.usdoj.gov/enrd/Consent_Decrees.html.

A copy of the Decrees may be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $14.25 (25 cents per page reproduction cost) payable to the U.S. Treasury or, if requesting by email or fax, forward a check in that amount to the Consent Decree Library at the address given above.

Robert Brook,
Assistant Section Chief, Environmental Enforcement Section, Environment and Natural Resources Division.

[FR Doc. 2012-21348 Filed 8-29-12; 8:45 am]

BILLING CODE 4410-15-P